DEPARTMENT OF COMMERCE

National Oceanic and Atmospheric Administration

15 CFR Part 902

50 CFR Part 216

[Docket No. 200312-0077]

RIN 0648-BH25

Subsistence Taking of Northern Fur Seals on the Pribilof Islands; Correction

AGENCY: National Marine Fisheries Service (NMFS), National Oceanic and Atmospheric Administration (NOAA), Commerce.

ACTION: Final rule; correcting amendment; effective date for collection-of-information requirements.

SUMMARY: NMFS is correcting a final rule published on October 2, 2019, that revised the subsistence use regulations for the Eastern Pacific stock of northern fur seals (Callorhinus ursinus). NMFS also is announcing approval by the Office of Management and Budget (OMB) of collection-of-information requirements subject to the Paperwork Reduction Act (PRA) and associated with the regulations revised in the final rule. The final rule incorrectly stated that the collection-of-information requirements subject to the PRA had been approved by the OMB at the time the final rule was published. On January 7, 2020, OMB approved the collection-of-information requirements subject to the PRA. The intent of this final rule is to correct this information and to inform the public of the effectiveness of the collection-of-information requirements associated with the subsistence use regulations revised in the October 2, 2019, final rule.

DATES: This rule is effective March 20, 2020.

The date of approval of the information collection requirements in 50 CFR 216.72 and 50 CFR 216.74 published October 2, 2019 at 84 FR 52372 is corrected to January 7, 2020 as of March 20, 2020.

ADDRESSES: Written comments regarding the burden-hour estimates or other aspects of the collection-of-information requirements contained in this rule may be submitted by mail to NMFS Alaska Region, P.O. Box 21668, Juneau, AK 99802-1668; by email to OIRA_Submission@omb.eop.gov; or by fax to 202-395-5806.

FOR FURTHER INFORMATION CONTACT: Michael Williams, NMFS Alaska Region, 907-271-5117, michael.williams@noaa.gov.

SUPPLEMENTARY INFORMATION: The taking of northern fur seals is prohibited by the Fur Seal Act (FSA, 16 U.S.C. 1151-1175), unless expressly authorized by the Secretary of Commerce through regulation. Section 105(a) of the FSA authorizes the promulgation of regulations with respect to the taking of fur seals on the Pribilof Islands as the Secretary of Commerce deems necessary and appropriate for the conservation, management, and protection of the fur seal population (16 U.S.C. 1155(a)). Regulations governing the subsistence use of northern fur seals are located at 50 CFR 216.71-216.74 and authorize Pribilovians to take fur seals on the Pribilof Islands if such taking is for subsistence uses and not accomplished in a wasteful manner (50 CFR 216.71).

Background

NMFS published a proposed rule on August 14, 2018 (83 FR 40192), to revise the subsistence use regulations for northern fur seals on the Pribilof Islands based on the petition from the Aleut Community of St. Paul Island, Tribal Government (ACSPI) (77 FR 41168; July 12, 2012). The final rule revising the subsistence use regulations at 50 CFR 216.71-216.74 published in the Federal Register on October 2, 2019 (84 FR 52372). The requirements of the final rule (84 FR 52372), other than the collection-of-information requirements associated with the subsistence use regulations (hunt and harvest reporting for St. Paul and St. George Islands), were effective on September 27, 2019. The final rule incorrectly stated that the collection-of-information requirements subject to the PRA had been approved by the OMB under OMB Control Number 0648-0699 (Annual Northern Fur Seal Subsistence Harvest Reporting) at the time the final rule was published. On January 7, 2020, OMB approved these collection-of-information requirements under OMB Control Number 0648-0699 (Annual Northern Fur Seal Subsistence Harvest Reporting). Accordingly, this rule announces the approval and effective date of the collection-of-information requirements associated with the subsistence use regulations found at 50 CFR 216.72 and 50 CFR 216.74.

OMB Revisions to PRA References in 15 CFR 902.1(b)

Section 3507(c)(B)(i) of the PRA requires that agencies inventory and display a current control number assigned by the Director of OMB, for each agency's information collection. Section 902.1(b) identifies the location of NOAA regulations for which OMB approval numbers have been issued. Because this final rule revises collection-of-information requirements, 15 CFR 902.1(b) is revised to reference correctly the sections resulting from this final rule.

Classification

Administrative Procedure Act

The Assistant Administrator for Fisheries, NOAA (AA), finds good cause to waive the requirement to provide prior notice and opportunity for public comment pursuant to the authority set forth at 5 U.S.C. 553(b)(B) as such requirement is unnecessary and contrary to the public interest. This action simply provides notice of OMB's approval of the collection-of-information requirements at issue, which has already occurred, and renders those collection-of-information requirements effective. Thus this action does not involve any further exercise of agency discretion by NMFS or OMB. Moreover, the public was already provided with notice and opportunity to comment during the public comment period for the proposed rule, which began on August 14, 2018, and ended on September 13, 2018, and during the public comment period for the 2019 Final SEIS for Management of the Subsistence Harvest of Northern Fur Seals on St. Paul Island, Alaska. Additional opportunity for public comment at this point would not be meaningful and would be duplicative. Any further delay to allow for public comment is therefore unnecessary and would result in public confusion.

For the same reasons, the AA also finds good cause under 5 U.S.C. 553(d)(3) to waive the 30-day delay in effective date and make this rule effective immediately upon publication.

Executive Order 12866

This final rule has been determined to be not significant for purposes of Executive Order 12866.

Paperwork Reduction Act

This final rule contains collection-of-information requirements subject to the PRA, and which OMB approved on January 7, 2020, under OMB Control Number 0648-0699. NMFS obtained OMB Control Number 0648-0699 for hunt and harvest reports associated with the regulations at 50 CFR 216.72 and 50 CFR 216.74, which apply to both St. Paul and St. George Islands. For St. Paul Island, public reporting burden for hunt and harvest reporting is estimated to average 40 hours per response, including the time for reviewing instructions, searching existing data sources, gathering and maintaining the data needed, and completing and reviewing the collection of information. There are no significant changes to the collection-of-information requirements for St. Paul or St. George.

Send comments regarding these burden estimates or any other aspect of this data collection, including suggestions for reducing the burden, to NMFS Alaska Region (see ADDRESSES) and by email to OIRA_Submission@omb.eop.gov, or fax to 202-395-5806.

Notwithstanding any other provision of the law, no person is required to respond to, nor shall any person be subject to a penalty for failure to comply with, a collection of information subject to the requirements of the PRA, unless that collection of information displays a currently valid OMB Control Number. All currently approved NOAA collections of information may be viewed at http://www.cio.noaa.gov/services_programs/prasubs.html.

List of Subjects

15 CFR Part 902

Reporting and recordkeeping requirements.

50 CFR Part 216

Alaska, Marine Mammals, Pribilof Islands, Reporting and Recordkeeping Requirements.

Dated: March 12, 2020.
Samuel D. Rauch, III,
Deputy Assistant Administrator for Regulatory Programs, National Marine Fisheries Service.

For the reasons set out in the preamble, NMFS amends 15 CFR part 902 as follows:

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, in the table in paragraph (b), under the entry “50 CFR”, add entry “216.72” in alphanumeric order to read as follows:

§ 902.1 OMB control numbers assigned pursuant to the Paperwork Reduction Act.

* * * * *

(b) * * *

CFR part or section where the information collection requirement is located | Current OMB control number (all numbers begin with 0648-)
* * * * *
50 CFR:
* * * * *
216.72 | -0699
* * * * *

* * * * *

[FR Doc. 2020-05668 Filed 3-19-20; 8:45 am]

BILLING CODE 3510-22-P